DEPARTMENT OF HEALTH AND HUMAN SERVICES

Request for Information (RFI): 2022 HHS Environmental Justice Strategy and Implementation Plan Draft Outline; Comment Period Extended

AGENCY: Office of the Assistant Secretary for Health, Office of the Secretary, Department of Health and Human Services (HHS).

ACTION: Notice of request for information; comment period extended.

SUMMARY: On April 8, 2022, the Department of Health and Human Services (HHS) published into the Federal Register a Request for Information (RFI) which is located at 87 FR 20876 to receive input from the public on HHS's draft outline to further the development of the 2022 Environmental Justice Strategy and Implementation Plan. Consistent with the policy of this administration directing HHS to make achieving environmental justice part of its mission, HHS would like to identify priority actions and strategies to best address environmental injustices and health inequities for people of color, disadvantaged, vulnerable, low-income, marginalized, and indigenous populations. With the engagement of and input from the public, the 2022 Environmental Justice Strategy and Implementation Plan will serve as a guide to confront environmental and health disparities and implement a multifaceted approach that will serve vulnerable populations and communities disproportionately impacted by environmental burdens.

DATES: To be assured consideration, comments must be received at the email address provided below, no later than midnight Eastern Time (ET) on June 18, 2022. HHS will not reply individually to responders but will consider all comments submitted by the deadline. Do not provide confidential information as comments may be published or otherwise used for agency purposes.

ADDRESSES: Please submit all responses via email to OASHcomments@hhs.gov as a Word document or in the body of an email.

FOR FURTHER INFORMATION CONTACT: Dr. LaToria Whitehead, Senior Public Health Analyst, email: ceq6@cdc.gov, phone: (770) 488-3633.

Dated: May 11, 2022.
Arsenio Mataka,
Senior Advisor, Office of the Assistant Secretary for Health, Department of Health and Human Services.

[FR Doc. 2022-10540 Filed 5-16-22; 8:45 am]

BILLING CODE 4150-28-P